DEPARTMENT OF ENERGY

International Energy Agency Meeting

AGENCY: Department of Energy.

ACTION: Notice of meeting.

SUMMARY: The Industry Advisory Board to the International Energy Agency (IEA) will meet on September 14, 2005, at the headquarters of the IEA in Paris, France in connection with a meeting of the IEA's Standing Group on Emergency Questions.

FOR FURTHER INFORMATION CONTACT: Samuel M. Bradley, Assistant General Counsel for International and National Security Programs, Department of Energy, 1000 Independence Avenue, SW., Washington, DC 20585, (202) 586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on September 14, 2005, beginning at 8:30 a.m. The purpose of this notice is to permit attendance by representatives of U.S. company members of the IAB at an Ad Hoc Emergency Session of the IEA's Standing Group on Emergency Questions (SEQ), which is scheduled to be held September 14, 2005, at the same location beginning at 10 a.m., including a preparatory encounter among company representatives from approximately 8:30 a.m. to 9 a.m.

The agenda for the preparatory encounter among company representatives is a review of the SEQ's meeting agenda. The agenda of the SEQ meeting is under the control of the SEQ. It is expected that the SEQ will adopt the following agenda:

1. Adoption of the Agenda of the Ad Hoc Emergency Session.

2. Introduction by the Executive Director.

3. Hurricane Katrina—Update of the Situation by the United States.

4. Update of the Oil Market Situation.

5. Report of the Industry Advisory Board.

6. Review of the IEA Initial Response Activities.

—Review of recent IEA emergency activities.

—Member country updates on the implementation of the Initial Emergency Response Plan.

—Recommendations from the SEQ to the IEA Governing Board.

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA. DOE has determined that the IEA's scheduling requirements for this Ad Hoc Emergency Session of the SEQ require that the 7-day advance notice required by DOE's regulations at 10 CFR 209.32(b) be shortened.

Issued in Washington, DC, September 6, 2005.
Samuel M. Bradley,
Assistant General Counsel for International and National Security Programs.

[FR Doc. 05-18017 Filed 9-7-05; 12:29 pm]

BILLING CODE 6450-01-P